DEPARTMENT OF THE INTERIOR

Bureau of Land Management

[PO4820000251]

Notice of Public Meetings of the Idaho Resource Advisory Council

AGENCY: Bureau of Land Management, Interior.

ACTION: Notice of public meeting.

SUMMARY: In accordance with the Federal Land Policy and Management Act of 1976 and the Federal Advisory Committee Act of 1972, the U.S. Department of the Interior, Bureau of Land Management (BLM) Idaho Resource Advisory Council (RAC) will meet as indicated below.

DATES: The Idaho RAC will hold a virtual meeting on Tuesday, August 19, 2025, from 9 a.m. to 5 p.m. Mountain Time (MT). The meeting is open to the public.

ADDRESSES: The final agenda and virtual participation instructions will be available on the Idaho RAC web page 30 days in advance of the meeting at https://www.blm.gov/get-involved/resource-advisory-council/near-you/idaho.

FOR FURTHER INFORMATION CONTACT: Monte (Ken) Anderson, telephone: (208) 373-3833, email: mkanderson@blm.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: The Idaho RAC is chartered, and the 15-members are appointed by the Secretary of the Interior through the BLM. Their diverse perspectives are represented in commodity, non-commodity, and local area interests. The Idaho RAC serves in an advisory capacity to BLM officials concerning issues relating to land use planning and management of public land resources located within the State of Idaho.

The August 19, 2025, agenda items include a report from the State Director, presentations and discussions on proposed new recreation fees, energy proposals, recreation, restoration and fuels treatments, a fire season update, and District Office updates.

Requests for Accommodations. Please make requests in advance for sign language interpreter services, assistive listening devices, language translation services, or other reasonable accommodations. We ask that you contact the person listed in the FOR FURTHER INFORMATION CONTACT section of this notice at least 14 business days prior to the meeting to give the Department of the Interior sufficient time to process your request. All reasonable accommodation requests are managed on a case-by-case basis.

Public Comment Procedures. The BLM welcomes comments from all interested parties. A public comment period will be held at 3 p.m. MT. Depending on the number of persons wishing to speak and the time available, the amount of time for oral comments may be limited. Written comments to the RAC may be submitted in advance of the meeting to the individual listed in the FOR FURTHER INFORMATION CONTACT section of this notice. All comments will be provided to the RAC. Please include “RAC Comment” in your submission.

Before including your address, phone number, email address, or other personal identifying information in your comments, please be aware that your entire comment—including your personal identifying information—may be made publicly available at any time. While you can ask us in your comments to withhold your personal identifying information from public review, we cannot guarantee that we will be able to do so.

Detailed summary minutes for the Idaho RAC meetings will be maintained in the BLM Idaho State Office and will be available for public inspection and reproduction during regular business hours within 30 days of the meetings. Previous minutes and agendas are also available on the Idaho RAC web page at https://www.blm.gov/get-involved/resource-advisory-council/near-you/idaho.

(Authority: 43 CFR 1784.4-2)

June Shoemaker,
BLM Idaho State Director (Acting).

[FR Doc. 2025-13116 Filed 7-11-25; 8:45 am]

BILLING CODE 4331-19-P